DEPARTMENT OF HOUSING AND URBAN DEVELOPMENT

[Docket No. FR-5763-N-06]

Implementation of the Privacy Act of 1974, as Amended; Republication and Alteration to System of Records—moveLINQS (mLINQS) Previously the Integrated Automated Travel System (IATS)

AGENCY: Office of the Chief Information Officer, HUD.

ACTION: Re-establish and amended system of records.

SUMMARY: Pursuant to the Privacy Act of 1974 (U.S.C. 552a (e)(4)), as amended, and Office of Management and Budget (OMB), Circular No. A-130, notice is hereby given that the Department of Housing and Urban Development (HUD), Office of the Chief Financial Officer (OCFO) proposes to re-establish coverage and provide a name update for a system of records removed from its repository (March 26, 2014, at 79 FR 16805), entitled “Integrated Automated Travel System (IATS).” This system was unintentionally removed from the Department's repository and subsequent notice is being filed to re-establish coverage for the system of records, and rename the system “mLINQS.” Additional alterations made of the system include new and revised routine uses, and various other alterations, some of which are updates to the categories of records in the system, the authority for maintenance of the system, and the retention and disposal captions. Major changes are summarized in the introductory portion of the “Supplementary Information” caption. Moreover, mLINQS is a web-based application utilized by the Department to generate documents associated with permanent Change of Station moves for employees that have been approved for relocation entitlements, and to manage and track relocation obligations and payments for employee moves. This notification supersedes the above mentioned notice requirements set forth by HUD's system of records publication (March 26, 2014 at 79 FR 16805).

DATES: Effective Date: The proposed modification will be effective immediately, with the exception of the new and revised routine uses, categories of records, and the authority for maintenance of the system, which will become effective 30 days after publication of this notice, on September 2, 2014, unless comments are received that would result in a contrary determination.

Comments Due Date: September 2, 2014.

ADDRESSES: Interested persons are invited to submit comments regarding this notice to the Rules Docket Clerk, Office of the General Counsel, Department of Housing and Urban Development, 451 Seventh Street SW., Room 10276, Washington, DC 20410-0500. Communication should refer to the above docket number and title. A copy of each communication submitted will be available for public inspection and copying between 8:00 a.m. and 5:00 p.m. weekdays at the above address.

FOR FURTHER INFORMATION CONTACT: Donna Robinson-Staton, Chief Privacy Officer, 451 Seventh Street SW., Washington, DC 20410 (Attention: Capitol View Building, 4th Floor), telephone number: (202) 402-8073. [The above telephone number is not a toll free number.] A telecommunications device for hearing- and speech-impaired persons (TTY) is available by calling the Federal Information Relay Service's toll-free telephone number (800) 877-8339.

SUPPLEMENTARY INFORMATION: This system of records is maintained by HUD's Office of the Chief Financial Officer and includes HUD employees' personally identifiable information that is retrieved by a name or unique identifier. Alteration to this system of records include: The addition of new and updated routine uses that authorize the Department to disclosure records to contractors and providers of service to assist in accomplishing Departmental activities related to travel relocation functions; updates to the entities' locations responsible for preserving records within the system, and the rationales for the period of times and destruction methods for proper disposition of records within the system; and updates to the agency's authority to maintain the system. Hence, this system of records encompasses programs and services of the Department's data collection and management practices. Publication of this notice allows HUD to satisfy its reporting requirement and keep an up-to-date accounting of its system of records publications. The re-established and altered system will incorporate Federal privacy requirements and HUD policy requirements. The Privacy Act provides certain safeguards for an individual against an invasion of personal privacy by requiring Federal agencies to protect records contained in an agency system of records from unauthorized disclosure, by ensuring that information is current and collected only for its intended use, and by providing adequate safeguards to prevent misuse of such information. Additionally, this demonstrates the Department's focus on industry best practices in protecting the personal privacy of the individuals covered by this system notification. This notice states the name and location of the record system, the authority for and manner of its operations, the categories of individuals that it covers, the type of records that it contains, the sources of the information for the records, the routine uses made of the records, and the type of exemptions in place for the records. In addition, this notice includes the business address of the HUD officials who will inform interested persons of the procedures whereby they may gain access to and/or request amendments to records pertaining to them.

This publication does meet the threshold requirements for a new system and a report was submitted to the Office of Management and Budget (OMB), the Senate Committee on Homeland Security and Governmental Affairs, and the House Committee on Government Reform as instructed by Paragraph 4c of Appendix l to OMB Circular No. A-130, “Federal Agencies Responsibilities for Maintaining Records About Individuals,” July 25, 1994 (59 FR 37914).

Authority: 5 U.S.C. 552a; 88 Stat. 1896; 42 U.S.C. 3535(d).

Dated: July 28, 2014.
Rafael C. Diaz,
Chief Information Officer.

SYSTEM OF RECORDS NO.: CFO/FY.05

SYSTEM NAME:

mLINQS.

SYSTEM LOCATION:

Records are located in the HUD CFO Regional Office, 801 Cherry Street, Fort Worth, TX 76102. Backup, recovery, and archived digital media is stored by Amazon Web Services.

CATEGORIES OF INDIVIDUALS COVERED BY THE SYSTEM:

Records cover current and former HUD employees and HUD employees' spouses and children.

CATEGORIES OF RECORDS IN THE SYSTEM:

Employee Information: Name, Social Security Number, Tax Identification Number, Home Address (prior/new), Phone Numbers (work, home, cell), Title, Salary Information (grade/rank), Retirement Plan, W-2 Tax Information, Employee Email Address. Family Information: Names of Family Members (spouse/children), Birth Dates of Family Members (spouse, children), Salary Information of Spouse (if available). This information is entered based on a questionnaire that the employee submits. The Social Security Number is pulled from HUDCAPS.

AUTHORITY FOR MAINTENANCE OF THE SYSTEM:

Sec. 113 of the Budget and Accounting Act of 1951 (31 U.S.C. 66a); The Chief Financial Officers Act of 1990 (31 U.S.C. Sec. 501, et. seq.); Executive Order 9397, as amended by Executive Order 13478.

PURPOSE(S):

The purpose of the system of records is to process and manage official HUD relocation obligations and payments, to maintain records on current HUD employees who are relocating to another office location within HUD and have been approved for relocation entitlements, and to record relocation disbursements in order to compute and record taxes and W-2s.

ROUTINE USES OF RECORDS MAINTAINED IN THE SYSTEM, INCLUDING CATEGORIES OF USERS AND THE PURPOSES OF SUCH USES:

Information from this system may also be disclosed as a routine use to:

1. IRS and the SSA to generate quarterly 941's and annual W-2's to fulfill HUD's statutory reporting of wage and income reporting requirements to IRS and SSA.

2. GSA in the form of invoices to enable the GSA to perform post audit of the invoices paid by HUD directly to the Household Good Shippers.

3. An authorized appeal or grievance examiner, formal complaints examiner, equal employment opportunity investigator, arbitrator, or other duly authorized official engaged in investigation or settlement of a grievance, complaint, or appeal filed by an employee to whom the information pertains. If HUD denies claims, HUD employees can appeal to the GSA Civilian Board of Contract Appeals.

4. Officials of labor organizations recognized under 5 U.S.C. Chapter 71 when relevant and necessary to their duties of exclusive representation concerning personnel policies, practices, and matters affecting working conditions.

5. A relocation travel services provider for billing and refund purposes.

6. A carrier or an insurer for settlement of an employee claim for loss of or damage to personal property incident to service under 31 U.S.C. 3721, or to a party involved in a tort claim against the Federal government resulting from an accident involving a traveler.

7. HUD contractors who have been engaged to assist the agency in the performance of a contract service, grant, cooperative agreement with HUD, when necessary to accomplish an agency function or other activity related to this system of records considered relevant to accomplishing an agency function.

8. Amazon Web Services for backup, recovery, and archived digital media storage.

9. Appropriate agencies, entities, and persons when: (a) HUD suspects or has confirmed that the security or confidentiality of information in a system of records has been compromised; (b) HUD has determined that as a result of the suspected or confirmed compromise there is a risk of harm to economic or property interests, identity theft or fraud, or harm to the security or integrity of systems or programs (whether maintained by HUD or another agency or entity) that rely upon the compromised information; and (c) the disclosure made to such agencies, entities, and persons is reasonably necessary to assist in connection with HUD's efforts to respond to the suspected or confirmed compromise and prevent, minimize, or remedy such harm for purposes of facilitating responses and remediation efforts in the event of a data breach.

10. Appropriate agencies, entities, and persons to the extent such disclosures are compatible with the purpose for which the records in this system were collected, as set forth by Appendix I ¹—HUD's Library of Routine Uses published in the Federal Register on (July 17, 2012 at 77 FR 41996).

¹ http://portal.hud.gov/hudportal/documents/huddoc?id=append1.pdf.

POLICIES AND PRACTICES FOR STORING, RETRIEVING, ACCESSING, RETAINING, AND DISPOSING OF RECORDS IN THE SYSTEM:

STORAGE:

Each individual relocatee has a folder with hard copies of these documents which are stored in secure cabinets in the file room under lock and key. Electronic files are stored on a server.

RETRIEVABILITY:

Electronic file records are retrieved by name and social security number.

SAFEGUARDS:

All HUD employees have undergone background investigations. HUD buildings are guarded and monitored by security personnel, cameras, ID checks, and other physical security measures. Access to electronic records is restricted to authorized personnel or contractors whose responsibilities require access by Contractor ID or HUD ID and password. Hard copy files are stored in secure cabinets in the file room under lock and key. Additionally, users must also sign a Rules of Behavior form certifying they agree to comply with the requirements before they are granted access to the system.

RETENTION AND DISPOSAL:

Retention and disposal is in accordance with Records Disposition Schedule 21, HUD Handbook 2225.6. Records are destroyed or deleted when no longer necessary for agency business in accord with applicable federal standards or in no less than seven years after last action in accord with limitations on civil actions by or against the U.S. Government (28 U.S.C. 2401 and 2415). Paper based records are destroyed by shredding or burning. Electronic Backup and Recovery digital media will be destroyed or otherwise rendered irrecoverable per NIST SP 800-88 “Guidelines for Media Sanitization” (September 2006). This complies with all federal regulations.

SYSTEM MANAGER(S) AND ADDRESS:

Assistant Chief Financial Officer for Systems, Office of the Chief Financial Officer, Department of Housing and Urban Development, 451 Seventh Street SW., Room 3100, Washington, DC 20410.

NOTIFICATION AND RECORD ACCESS PROCEDURES:

For information, assistance, or inquiries about the existence of records contact the Chief Privacy Officer, Department of Housing and Urban Development, 451 Seventh Street SW., Room 4156, Washington, DC 20410. Verification of your identity must include original signature and be notarized with two proofs of identity. Written request must include the full name, date of birth, current address, and telephone number of the individual making the request.

CONTESTING RECORD PROCEDURES:

The Department's rules for contesting contents of records and appealing initial denials appear in 24 CFR Part 16. Additional assistance may be obtained by contacting: U.S. Department of Housing and Urban Development, Chief Privacy Officer, 451 Seventh Street SW., Washington, DC 20410 or the HUD Departmental Privacy Appeals Officers, Office of General Counsel, Department of Housing and Urban Development, 451 Seventh Street SW., Washington, DC 20410.

RECORD SOURCE CATEGORIES:

Information in this system of records is provided by the subject of the record, the documents created from this information to facilitate the relocation, household goods carriers, and document information from HUDCAPS.

SYSTEMS EXEMPTED FROM CERTAIN PROVISIONS OF THE ACT:

None.

[FR Doc. 2014-18274 Filed 7-31-14; 8:45 am]

BILLING CODE 4210-67-P